DEPARTMENT OF EDUCATION

The Secretary of Education's Commission on Opportunity in Athletics; Notice of Establishment

AGENCY: Office for Civil Rights, Education.

ACTION: Notice of establishment of The Secretary of Education's Commission on Opportunity in Athletics.

SUMMARY: The Secretary of Education announces his intention to establish the Secretary of Education's Commission on Opportunity in Athletics. The Commission will be governed by the Federal Advisory Committee Act (Pub. L. 92-463 as amended; 5 U.S.C.A. Appendix 2).

Purpose: The Secretary has determined that the 30th anniversary of the passage of Title IX of the Education Amendments of 1972 (“Title IX”) is an appropriate time to review the application of current Federal standards for measuring equal opportunity for men and women and boys and girls to participate in athletics under Title IX. This landmark legislation prohibits recipients of Federal funds from discriminating on the basis of sex. Prior to the enactment of Title IX, schools and universities receiving federal funds were free to discriminate against women (and girls).

Over the last 30 years, there has been a dramatic increase in the number of women's (and girls') athletic teams at both the high school and college levels. From 1981 to 1999, the total number of college women's teams increased by 66%. Despite these gains, many college administrators claim that the Department has failed to provide clear guidance on how colleges can comply with Title IX. The Secretary believes that it would be in the public interest to establish this Commission for the purpose of collecting information, analyzing issues, and obtaining broad public input directed at improving the application of current Federal standards for measuring equal opportunity for men and women and boys and girls to participate in athletics under Title IX.

The Commission will produce a report, not later than January 31, 2003, to the Secretary outlining its findings and any recommendations as to whether the Title IX standards should be revised, and if so, how the standards should be revised to improve the effectiveness of Title IX and to maintain and build upon the extraordinary progress that has resulted from its passage 30 years ago.

The Commission will consist of not more than 15 members appointed by the Secretary from the public and private sectors, as well as up to three ex officio members from the Department of Education. The members shall include representatives of college, university, and school district officials, such as athletic directors, coaches, and other faculty, and representatives of intercollegiate and secondary school athletics; and may include researchers, state and local officials, and other persons with special expertise in intercollegiate and secondary school athletics or issues of equal educational opportunity. The membership of the Commission will be fairly balanced to reflect representation of a wide range of interests and perspectives relating to men's and women's (and boys' and girls') athletics. Members shall be appointed for the life of the Commission and the Secretary shall select one or more chairpersons from among the members of the Commission.

For Additional Information: Contact Deborah Price, U.S. Department of Education, Washington, DC 20202. Telephone: (202) 708-9132.

Dated: July 5, 2002.
Rod Paige,
Secretary of Education.

[FR Doc. 02-17467 Filed 7-10-02; 8:45 am]

BILLING CODE 4000-01-M